DEPARTMENT OF COMMERCE

Foreign-Trade Zones Board

[Order No. 1195]

Approval for Expanded Manufacturing Authority (Agricultural Chemical Products); Within Foreign-Trade Subzone 82E, Syngenta Crop Protection, Inc., Mobile County, AL

Pursuant to its authority under the Foreign-Trade Zones Act of June 18, 1934, as amended (19 U.S.C. 81a-81u), the Foreign-Trade Zones Board (the Board) adopts the following Order:

Whereas, the City of Mobile, Alabama, grantee of Foreign-Trade Zone 82, has applied to expand the scope of manufacturing authority for FTZ Subzone 82E (Syngenta Crop Protection, Inc. facilities near Bucks, Mobile County, Alabama) to include production of the agricultural chemical Mesotrione (a broadleaf herbicide) under FTZ procedures (FTZ Doc. 41-2000; filed 7-21-2000);

Whereas, notice inviting public comment was given in Federal Register (65 FR 47375, 8-2-2000); and,

Whereas, the Board adopts the findings and recommendations of the examiner's report, and finds that the requirements of the FTZ Act and Board's regulations are satisfied, and that approval of the application is in the public interest;

Now, Therefore, the Board hereby approves the request subject to the FTZ Act and the Board's regulations, including section 400.28.

Signed at Washington, DC, this 27th day of September 2001.
Faryar Shirzad,
Assistant Secretary of Commerce for Import Administration, Alternate Chairman,Foreign-Trade Zones Board.
Attest:
Dennis Puccinelli,
Executive Secretary.

[FR Doc. 01-26130 Filed 10-16-01; 8:45 am]

BILLING CODE 3510-DS-P